DEPARTMENT OF THE INTERIOR

Fish and Wildlife Service

[FWS-HQ-IA-2013-N121; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and the Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Permit No. | Applicant | Receipt of application Federal Register notice | Permit issuance date
Endangered Species
65816A | Lewis Henderson | 77 FR 24510; April 24, 2012 | June 1, 2013.
71523A | Liberty Hill Land Partnership Ltd | 77 FR 24510; April 24, 2012 | June 1, 2012.
71768A | Chris Pannill | 77 FR 24510; April 24, 2012 | June 1, 2012.
71660A | Rattlesnake Springs Ranch | 77 FR 24510; April 24, 2012 | June 1, 2012.
68176A | Safeguard Investments Ltd | 77 FR 24510; April 24, 2012 | June 1, 2012.
72025A | Texana Ranch | 77 FR 24510; April 24, 2012 | June 1, 2012.
67537A | Dixon Land & Wildlife Co | 77 FR 24510; April 24, 2012 | June 1, 2012.
72017A | Hays City Ranch | 77 FR 24510; April 24, 2012 | June 1, 2012.
69106A | Lewis Henderson | 77 FR 24510; April 24, 2012 | June 1, 2012.
71521A | Liberty Hill Land Partnership Ltd | 77 FR 24510; April 24, 2012 | June 1, 2012.
71767A | Chris Pannill | 77 FR 24510; April 24, 2012 | June 1, 2012.
71533A | Patterson Energy Of Texas, L.L.C | 77 FR 24510; April 24, 2012 | June 1, 2012.
71445A | Pheenix Farms Exotics | 77 FR 24510; April 24, 2012 | June 1, 2012.
71661A | Rattlesnake Springs Ranch | 77 FR 24510; April 24, 2012 | June 1, 2012.
72023A | Texana Ranch | 77 FR 24510; April 24, 2012 | June 1, 2012.
816624 | Charles Musgrave | 77 FR 26779; May 7, 2012 | June 20, 2012.
72630A | Ripley's Aquarium (Gatlinburg), L.L.C | 77 FR 26779; May 7, 2012 | June 20, 2012.
15387A | Wild Acres Ranch | 77 FR 26779; May 7, 2012 | June 20, 2012.
72654A | William Bean | 77 FR 26779; May 7, 2012 | February 27, 2013.
71354A | Canyon Exotic Game Ranch, L.L.C | 77 FR 26779; May 7, 2012 | June 21, 2012.
66614A | Robert Eaves | 77 FR 26779; May 7, 2012 | June 21, 2012.
72328A | Hays City Ranch | 77 FR 26779; May 7, 2012 | June 1, 2013.
69576A | Star B Property Company | 77 FR 26779; May 7, 2012 | June 21, 2012.
72653A | William Bean | 77 FR 26779; May 7, 2012 | June 21, 2012.
71823A | Blex Exchange III, L.P. | 77 FR 26779; May 7, 2012 | June 21, 2012.
71353A | Canyon Exotic Game Ranch, L.L.C | 77 FR 26779; May 7, 2012 | June 21, 2012.
66615A | Robert Eaves | 77 FR 26779; May 7, 2012 | June 21, 2012.
69575A | Star B Property Company | 77 FR 26779; May 7, 2012 | June 21, 2012.
723430 | Micke Grove Zoo | 77 FR 26779; May 7, 2012 | July 11, 2012.
213382 | Virginia Safari Park & Preservation Center, Inc | 77 FR 26779; May 7, 2012 | July 21, 2012.
72933A | James Bruner | 77 FR 30547; May 23, 2012 | June 29, 2012.
70438A | Randall Cupp | 77 FR 30547; May 23, 2012 | June 29, 2012.
73857A | Frank Deel | 77 FR 30547; May 23, 2012 | June 29, 2012.
71316A | DMK Ranching | 77 FR 30547; May 23, 2012 | June 29, 2012.
70234A | Jx2, LLC | 77 FR 30547; May 23, 2012 | June 29, 2012.
71496A | Carol Neunhoffer | 77 FR 30547; May 23, 2012 | June 29, 2012.
67083A | Selah Springs Ranch | 77 FR 30547; May 23, 2012 | June 29, 2012.
73612A | Twisted Oaks Ranch LLC | 77 FR 30547; May 23, 2012 | June 29, 2012.
804095 | Brad Blevins | 77 FR 30547; May 23, 2012 | June 29, 2012.
72932A | James Bruner | 77 FR 30547; May 23, 2012 | June 29, 2012.
70436A | Randall Cupp | 77 FR 30547; May 23, 2012 | June 29, 2012.
73856A | Frank Deel | 77 FR 30547; May 23, 2012 | June 29, 2012.
71317A | DMK Ranching | 77 FR 30547; May 23, 2012 | June 29, 2012.
69145A | Jx2, LLC | 77 FR 30547; May 23, 2012 | June 29, 2012.
71497A | Carol Neunhoffer | 77 FR 30547; May 23, 2012 | June 29, 2012.
67084A | Selah Springs Ranch | 77 FR 30547; May 23, 2012 | June 29, 2012.
71664A | Sharbutt Land & Cattle | 77 FR 30547; May 23, 2012 | June 29, 2012.
73610A | Twisted Oaks Ranch LLC | 77 FR 30547; May 23, 2012 | June 29, 2012.
56870A | Carson Springs Wildlife Foundation | 77 FR 30547; May 23, 2012 | May 1, 2013.
018969 | Center For Conservation Of Tropical Ungulates | 77 FR 30547; May 23, 2012 | July 17, 2012.
690989 | Columbus Zoo And Aquarium | 77 FR 30547; May 23, 2012 | July 17, 2012.
750150 | Richard Noble | 77 FR 30547; May 23, 2012 | July 17, 2012.
75409A | Andrew Barton | 77 FR 34059; June 8, 2012 | July 11, 2012.
75285A | Michael Ryckman | 77 FR 34059; June 8, 2012 | July 11, 2012.
73017A | Desert Horn Safaris | 77 FR 34059; June 8, 2012 | July 16, 2012.
75407A | Texas Parks And Wildlife Department | 77 FR 34059; June 8, 2012 | July 16, 2012.
73016A | Desert Horn Safaris | 77 FR 34059; June 8, 2012 | July 16, 2012.
75297A | Dos Hijos Ranch—Operations, Inc | 77 FR 34059; June 8, 2012 | July 16, 2012.
701225 | Naples Zoo, Inc. | 77 FR 34059; June 8, 2012 | July 16, 2012.
75408A | Texas Parks And Wildlife Department | 77 FR 34059; June 8, 2012 | July 16, 2012.
841281 | Janell Knudsen | 77 FR 34059; June 8, 2012 | July 18, 2012.
75109A | Reigleman Enterprises | 77 FR 34059; June 8, 2012 | October 18, 2012.
75693A | Turtle Back Zoo | 77 FR 34059; June 8, 2012 | December 12, 2012.
050694 | Loraine & John Shea | 77 FR 36571; June 19, 2012 | July 26, 2012.
76245A | Michael Cone | 77 FR 36571; June 19, 2012 | August 9, 2012.
75534A | Diamond G Of Morgan City LLC | 77 FR 36571; June 19, 2012 | August 9, 2012.
76246A | Michael Cone | 77 FR 36571; June 19, 2012 | August 9, 2012.
75404A | Diamond G Of Morgan City LLC | 77 FR 36571; June 19, 2012 | August 9, 2012.
76153A | Spirit Wild Productions, Ltd | 77 FR 36571; June 19, 2012 | August 14, 2012.
76154A | Spirit Wild Productions, Ltd | 77 FR 36571; June 19, 2012 | August 14, 2012.
77732A | Broken Spur Ranch LLC | 77 FR 38652; June 28, 2012 | August 10, 2012.
104625 | J & R Outfitters | 77 FR 38652; June 28, 2012 | August 10, 2012.
77005A | Rancho Rasante Real, LLC | 77 FR 38652; June 28, 2012 | August 10, 2012.
77731A | Broken Spur Ranch LLC | 77 FR 38652; June 28, 2012 | August 10, 2012.
77003A | Rancho Rasante Real, LLC | 77 FR 38652; June 28, 2012 | August 10, 2012.
212762 | Southern Tier Zoological Society, Inc | 77 FR 38652; June 28, 2012 | August 10, 2012.
78003A | Lykes Bros. | 77 FR 41198; July 12, 2012 | August 14, 2012.
78004A | Lykes Bros. | 77 FR 41198; July 12, 2012 | August 14, 2012.
755365 | Safari West | 77 FR 41198; July 12, 2012 | August 14, 2012.
71824A | Marvin Turner | 77 FR 41198; July 12, 2012 | August 14, 2012.
71826A | Marvin Turner | 77 FR 41198; July 12, 2012 | August 15, 2012.
785246 | Robert Blome | 77 FR 44264; July 27, 2012 | August 28, 2012.
79469A | Andy Nguyen | 77 FR 44264; July 27, 2012 | August 28, 2012.
79772A | Ay Sao | 77 FR 44264; July 27, 2012 | August 28, 2012.
01602B | Michael Tomb | 78 FR 21628; April 11, 2013 | May 14, 2013.
Marine Mammals
801652 | U.S. Geological Survey, Alaska Science Center | 78 FR 5481; January 25, 2013 | May 10, 2013.
95406A | Karyn Rode, USGS | 78 FR 12777; February 25, 2013 | May 3, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-12228 Filed 5-21-13; 8:45 am]

BILLING CODE 4310-55-P